Memorandum of September 30, 2014

Delegation of Authority Under Section 614 of the Foreign Assistance Act of 1961

Memorandum for the Secretary of State

By the authority vested in me as President by the Constitution and the laws of the United States of America, including section 301 of title 3, United States Code, I hereby delegate to the Secretary of State the authority under section 614 of the Foreign Assistance Act of 1961 (FAA) to determine whether it is important to the security interests of the United States to furnish up to $123,000,000 in funds made available pursuant to chapter 8 of part I of the FAA to provide assistance for Ukraine, Tunisia, Honduras, El Salvador, Guatemala, Costa Rica, Panama, Nigeria, Albania, and Vietnam without regard to any provision of law within the scope of section 614(a)(1) of the FAA and to authorize the furnishing of such assistance.

You are authorized and directed to publish this memorandum in the Federal Register.

THE WHITE HOUSE,

Washington, September 30, 2014

[FR Doc. 2014-27856

Filed 11-20-14; 11:15 am]

Billing code 4710-10